DEPARTMENT OF AGRICULTURE

Food and Nutrition Service

National School Lunch, Special Milk, and School Breakfast Programs, National Average Payments/Maximum Reimbursement Rates

Correction

In notice document 2013-17990, appearing on pages 45178-45181, in the issue of Friday, July 26, 2013, make the following correction:

On page 45181, the Table titled “AFTERSCHOOL SNACKS SERVED IN AFTERSCHOOL CARE PROGRAMS” is corrected to read as set forth below:

Afterschool Snacks Served in Afterschool Care Programs
CONTIGUOUS STATES:
PAID | 0.07
REDUCED PRICE | 0.40
FREE | 0.80
ALASKA:
PAID | 0.11
REDUCED PRICE | 0.65
FREE | 1.30
HAWAII:
PAID | 0.08
REDUCED PRICE | 0.47
FREE | 0.94
*Payment listed for Free and Reduced Price Lunches include both section 4 and section 11 funds.

[FR Doc. C1-2013-17990 Filed 8-2-13; 8:45 am]

BILLING CODE 1501-01-D